DEPARTMENT OF TRANSPORTATION

Federal Aviation Administration

14 CFR Part 71

[Docket No. FAA-2005-21529; Airspace Docket No. 05-AAL-19]

Revision of Class E Airspace; Yakutat, AK

AGENCY: Federal Aviation Administration (FAA), DOT.

ACTION: Final rule.

SUMMARY: This action revises Class E airspace at Yakutat, AK to provide adequate controlled airspace to contain aircraft executing three new Standard Instrument Approach Procedures (SIAPs), seven existing SIAPs and one revised Departure Procedure. This rule results in new Class E airspace upward from 1,200 feet (ft.) above the surface at Yakutat, AK. The existing airspace upward from 700 ft. above the surface is not changed.

EFFECTIVE DATE: 0901 UTC, December 22, 2005.

FOR FURTHER INFORMATION CONTACT: Gary Rolf, AAL-538G, Federal Aviation Administration, 222 West 7th Avenue, Box 14, Anchorage, AK 99513-7587; telephone number (907) 271-5898; fax: (907) 271-2850; e-mail: gary.ctr.rolf@faa.gov. Internet address: http://www.alaska.faa.gov/at.

SUPPLEMENTARY INFORMATION:

History

On Friday, June 24, 2005, the FAA proposed to amend part 71 of the Federal Aviation Regulations (14 CFR part 71) to amend the Class E airspace upward from 700 ft. and 1,200 ft. above the surface at Yakutat, AK (70 FR 36542). The action was proposed in order to create Class E airspace sufficient in size to contain aircraft while executing three new SIAPs, seven revised SIAPs and one revised departure procedure for the Yakutat Airport. The new approaches are (1) Area Navigation (Global Positioning System) (RNAV (GPS)) Runway (RWY) 02, original; (2) RNAV (GPS) RWY 11, orig.; and (3) RNAV (GPS) RWY 29, orig. The seven revised SIAPs are (1) Direction Finder (DF) RWY 11, amendment (AMDT) 3, (2) Instrument Landing System (ILS) or Localizer (LOC)-Distance Measuring Equipment (DME) RWY 11, orig., (3) LOC-DME-Back Course RWY 29, AMDT 3, (4) Non-directional Radio Beacon RWY 11, AMDT 3, (5) Very High Frequency Omnidirectional Range (VOR)-DME RWY 02, AMDT 2, (6) VOR-DME RWY 11, AMDT. 1, and (7) VOR-DME RWY 29, AMDT 1. The Departure Procedure is the FAKES-TWO, AMDT 1. Revised Class E controlled airspace extending upward from 700 ft. above the surface in the Yakutat Airport area is revised by this action. Interested parties were invited to participate in this rulemaking proceeding by submitting written comments on the proposal to the FAA. No public comments have been received; thus the rule is adopted as proposed.

The area will be depicted on aeronautical charts for pilot reference. The coordinates for this airspace docket are based on North American Datum 83. The Class E airspace areas designated as 700/1,200 ft. transition areas are published in paragraph 6005 of FAA Order 7400.9N, Airspace Designations and Reporting Points, dated September 1, 2005, and effective September 15, 2005, which is incorporated by reference in 14 CFR 71.1. The Class E airspace designation listed in this document will be published subsequently in the Order. The Notice of Proposed Rulemaking (NPRM) originally listed the airport position coordinates incorrectly. Additionally, the airspace description was incomplete. This action corrects these errors. The rule describes exclusions to airspace outside 12 miles from the shoreline. These exclusions will be addressed by another rulemaking action, which will provide the necessary controlled airspace for the SIAPs at Yakutat. Those changes will affect the Offshore Airspace Areas; Gulf of Alaska Low and Control 1487L.

The Rule

This amendment to 14 CFR part 71 revises Class E airspace at Yakutat, Alaska. This Class E airspace is revised to accommodate aircraft executing three new SIAPs, seven revised SIAPs, one revised departure procedure and will be depicted on aeronautical charts for pilot reference. The intended effect of this rule is to provide adequate controlled airspace for Instrument Flight Rule (IFR) operations at Yakutat Airport, Yakutat, Alaska.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. Since this a routine matter that will only affect air traffic procedures and air navigation, it is certified that this rule will not have a significant economic impact on a substantial number of small entities under the criteria of the Regulatory Flexibility Act.

The FAA's authority to issue rules regarding aviation safety is found in Title 49 of the United States Code. Subtitle 1, Section 106 describes the authority of the FAA Administrator. Subtitle VII, Aviation Programs, describes in more detail the scope of the agency's authority.

This rulemaking is promulgated under the authority described in Subtitle VII, Part A, Subpart 1, Section 40103, Sovereignty and use of airspace. Under that section, the FAA is charged with prescribing regulations to ensure the safe and efficient use of the navigable airspace. This regulation is within the scope of that authority because it creates Class E airspace sufficient in size to contain aircraft executing instrument procedures for the Yakutat Airport and represents the FAA's continuing effort to safely and efficiently use the navigable airspace.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9N, Airspace Designations and Reporting Points, dated September 1, 2005, and effective September 15, 2005, is amended as follows:

* * * * *

Paragraph 6005 Class E airspace extending upward from 700 feet or more above the surface of the earth.

* * * * *

AAL AK E5 Yakutat, AK [Revised]

Yakutat Airport, AK

(Lat. 59°30′12″ N., long. 139°39′37″ W.)

That airspace extending upward from 700 feet above the surface within the area bounded by lat. 59°47′42″ N. long. 139°58′48″ W. to lat. 59°37′33″ N. long. 139°40′53″ W. then along the 7-mile radius of the Yakutat VORTAC clockwise to lat. 59°28′54″ N. long. 139°25′35″ W. to lat. 59°20′16″ N. long. 139°10′20″ W. to lat. 59°02′49″ N. long. 139°47′45″ W. to lat. 59°30′15″ N. long. 140°36′43″ W. to the point of beginning excluding the area outside 12 miles from the shoreline; and that airspace extending upward from 1,200 feet above the surface within the area bounded by lat. 59°00′00″ N. long. 141°10′00″ W. by lat. 59°50′00″ N. long. 141°00′00″ W. by lat. 60°05′00″ N. long. 140°30′00″ W. by lat. 60°10′00″ N. long. 139°30′00″ W. by lat. 59°30′00″ N. long. 138°15′00″ W. by lat. 59°00′00″ N. long. 138°35′00″ W. by lat. 58°40′00″ N. long. 139°30′00″ W. to the point of beginning; and within 5.6 miles each side of the Yakutat VORTAC 112° radial to 65 miles southeast of the VORTAC excluding the area outside 12 miles from the shoreline.

* * * * *

Issued in Anchorage, AK, on October 7, 2005.
Anthony M. Wylie,
Acting Area Director, Alaska Flight Service Operations.

[FR Doc. 05-21002 Filed 10-19-05; 8:45 am]

BILLING CODE 4910-13-P